COMMODITY FUTURES TRADING COMMISSION

Agency Information Collection Activities: Notice of Intent To Renew Collection 3038-0093, Part 40, Provisions Common to Registered Entities

AGENCY: Commodity Futures Trading Commission.

ACTION: Notice.

SUMMARY: The Commodity Futures Trading Commission (“Commission” or “CFTC”) is announcing an opportunity for public comment on the proposed collection of certain information by the agency. Under the Paperwork Reduction Act (“PRA”), Federal agencies are required to publish notice in the Federal Register concerning each proposed collection of information, including each proposed extension of an existing collection, and to allow 60 days for public comment. This notice solicits comments on collections of information provided for by part 40 of the Commission's regulations, Provisions Common to Registered Entities.

DATES: Comments must be submitted on or before December 4, 2023.

ADDRESSES: You may submit comments, identified by OMB Control No. 3038-0093 by any of the following methods:

• The Agency's Website, at https://comments.cftc.gov/. Follow the instructions for submitting comments through the website.

• Email: Comments may also be sent by email to secretary@cftc.gov. Please make sure to put “OMB Control No. 3038-0093” in the email subject line.

• Mail: Christopher Kirkpatrick, Secretary of the Commission, Commodity Futures Trading Commission, Three Lafayette Centre, 1155 21st Street NW, Washington, DC 20581.

• Hand Delivery/Courier: Same as Mail above.

Please submit your comments using only one method and identify that it is for the renewal of Collection Number 3038-0093.

FOR FURTHER INFORMATION CONTACT: Maura Dundon, Special Counsel, Division of Market Oversight, Commodity Futures Trading Commission, Three Lafayette Centre, 1155 21st Street NW, Washington, DC 20581, (202)-418-5286, email: mdundon@cftc.gov.

SUPPLEMENTARY INFORMATION: Under the PRA, 44 U.S.C. 3501 et seq., Federal agencies must obtain approval from the Office of Management and Budget (“OMB”) for each collection of information they conduct or sponsor. “Collection of Information” is defined in 44 U.S.C. 3502(3) and 5 CFR 1320.3 and includes agency requests or requirements that members of the public submit reports, keep records, or provide information to a third party. Section 3506(c)(2)(A) of the PRA, 44 U.S.C. 3506(c)(2)(A), requires Federal agencies to provide a 60-day notice in the Federal Register concerning each proposed collection of information before submitting the collection to OMB for approval. To comply with this requirement, the CFTC is publishing notice of the proposed collection of information listed below. An agency may not conduct or sponsor, and a person is not required to respond to, a collection of information unless it displays a currently valid OMB control number.

Title: Part 40, Provisions Common to Registered Entities (OMB Control No. 3038-0093). This is a request for extension of a currently approved information collection.

Abstract: This collection of information involves the collection and submission to the Commission of information from registered entities concerning new products, rules, and rule amendments pursuant to the procedures outlined in §§ 40.2, 40.3, 40.5, 40.6, and 40.10 found in 17 CFR part 40. Part 40 of the Commission's regulations implements section 5c(c) of the CEA and sets forth provisions that are common to registered entities, including designated contract markets (“DCMs”), derivatives clearing organizations (“DCOs”), swap execution facilities (“SEFs”) and swap data repositories (“SDRs”). Part 40 establishes requirements and procedures for registered entities to submit information about their rules and products to the Commission prior to implementing rules, listing products for trading, or accepting products for clearing. Part 40 generally provides two means for registered entities to submit rules and products to the Commission. Typically, a registered entity elects to certify that their product (§ 40.2) or rule (§ 40.6) complies with the CEA and the Commission regulations. This process is known as self-certification. Alternatively, a registered entity may seek Commission approval of the product (§ 40.3) or rule (§ 40.5).¹ The regulations also include special certification provisions (§ 40.10) for certain rules submitted by systemically important DCOs (“SIDCOs”).

¹ Commission regulations may expressly or impliedly trigger the requirement for a registered entity to make a submission pursuant to part 40. For example, the Commission's part 150 regulation on position limits contains an express requirement to make a § 40.5 rule filing in certain circumstances. See 17 CFR 150.9(a).

With respect to the collection of information, the CFTC invites comments on:

• Whether the proposed collection of information is necessary for the proper performance of the functions of the Commission, including whether the information will have a practical use;

• The accuracy of the Commission's estimate of the burden of the proposed collection of information, including the validity of the methodology and assumptions used;

• Ways to enhance the quality, usefulness, and clarity of the information to be collected; and

• Ways to minimize the burden of collection of information on those who use of appropriate automated electronic, mechanical, or other technological collection techniques or other forms of information technology; e.g., permitting electronic submission of responses.

All comments must be submitted in English, or if not, accompanied by an English translation. Comments will be posted as received to https://www.cftc.gov. You should submit only information that you wish to make available publicly. If you wish the Commission to consider information that you believe is exempt from disclosure under the Freedom of Information Act, a petition for confidential treatment of the exempt information may be submitted according to the procedures established in § 145.9 of the Commission's regulations.²

² 17 CFR 145.9.

The Commission reserves the right, but shall have no obligation, to review, pre-screen, filter, redact, refuse or remove any or all of your submission from https://www.cftc.gov that it may deem to be inappropriate for publication, such as obscene language. All submissions that have been redacted or removed that contain comments on the merits of the Information Collection Request will be retained in the public comment file and will be considered as required under the Administrative Procedure Act and other applicable laws, and may be accessible under the Freedom of Information Act.

Burden Statement: OMB Control Number 3038-0093 reflects the information collection burden under Commission regulations associated with product filings (§§ 40.2 and 40.3); rule filings (§§ 40.5 and 40.6); and SIDCO filings (§ 40.10). As part of this renewal, the Commission has updated its burden estimates to reflect current filing volumes and burden hours.

Provisions Common to Regulated Entities IC

The Commission estimates the average burden of the Provisions Common to Regulated Entities IC as follows:

• Product Submissions (§ 40.2 and 40.3)

Estimated Number of Respondents: 70.³

³ The estimated number of 70 respondents includes 16 active DCMs, 23 registered SEFs, 15 registered DCOs, 5 provisionally registered SDRs, plus pending applications for those entities.

Annual Responses by each Respondent: 12.⁴

⁴ The 3-year average of total responses for §§ 40.2 and 40.3 submissions combined was 848 responses, calculated by taking the annual total submissions received under §§ 40.2 and 40.3 combined from all entities and averaging them for the years of 2020, 2021 and 2022. The estimated number of reports per respondent is calculated as 848 responses divided by 70 respondents (848 responses/70 respondents = 12 responses per respondent).

Estimated Hours per Response: 21.⁵

⁵ The 21-hour estimate for product submissions reflects industry comments received in 2018. See 83 FR 43855, 43856 (Aug. 28, 2018); Supporting Statement at https://www.reginfo.gov/public/do/PRAViewDocument?ref_nbr=201808-3038-003.

Estimated Total Hours per Year: 17,640.

• Rule Submissions (§§ 40.5 and 40.6)

Estimated Number of Respondents: 70.⁶

⁶ See supra n.3.

Annual Responses by each Respondent: 20.⁷

⁷ The 3-year average of total responses for §§ 40.5 and 40.6 submissions combined was 1,412 responses, calculated by taking the annual total submissions received under §§ 40.5 and 40.6 combined from all entities and averaging them for the years of 2020, 2021 and 2022. The estimated number of reports per respondent is calculated as 1,412 responses divided by 70 respondents (1,412 responses/70 respondents = 20 responses per respondent).

Estimated Hours per Response: 2.

Estimated Total Hours per Year: 2,800.

• SIDCO Submissions (§ 40.10)

Estimated Number of Respondents: 2.

Annual Responses by each Respondent: 1.⁸

⁸ The 3-year average of total responses for § 40.10 submissions was 2, calculated by taking the annual total submissions received under § 40.10 from all SIDCOs and averaging them for the years of 2020, 2021 and 2022. The average number of reports per respondent is 1, calculated as 2 responses divided by 2 respondents (2 responses/2 respondents = 1 response per respondent).

Estimated Hours per Response: 50.

Estimated Total Hours per Year: 100.

There are no capital costs or operating and maintenance costs associated with this collection.

(Authority: 44 U.S.C. 3501 et seq.)

Dated: September 28, 2023.
Robert Sidman,
Deputy Secretary of the Commission.

[FR Doc. 2023-21817 Filed 10-2-23; 8:45 am]

BILLING CODE 6351-01-P